DEPARTMENT OF LABOR

Notice of Initial Determination To Remove Cotton From Uzbekistan From the List of Products Requiring Federal Contractor Certification as to Forced or Indentured Child Labor Pursuant to Executive Order 13126

AGENCY: Bureau of International Labor Affairs, Department of Labor.

ACTION: Notice of initial determination; request for comments.

SUMMARY: This initial determination proposes to revise the list required by Executive Order No. 13126 (“Prohibition of Acquisition of Products Produced by Forced or Indentured Child Labor”) (E.O. List) in accordance with the Department of Labor's (DOL) “Procedural Guidelines for the Maintenance of the List of Products Requiring Federal Contractor Certification as to Forced or Indentured Child Labor” (the Procedural Guidelines).¹ The E.O. List identifies a list of products, by their country of origin, that DOL, in consultation and cooperation with the Department of State and the Department of Homeland Security (hereinafter “the three Departments”), has a reasonable basis to believe might have been mined, produced, or manufactured by forced or indentured child labor. This notice proposes to remove cotton from Uzbekistan because the three Departments have preliminarily determined that the use of forced or indentured child labor in the production of that product has been significantly reduced. The Department of Labor invites public comment on this initial determination. The three Departments will consider all public comments prior to publishing a final determination revising the E.O. List.

¹ 66 FR 5351 (Jan. 18, 2001).

DATES: Comments should be submitted to the Office of Child Labor, Forced Labor, and Human Trafficking (OCFT) via one of the methods described below and must be received by no later than 5 p.m. ET, August 30, 2018, to guarantee consideration.

ADDRESSES: Information submitted to the Department of Labor should be submitted directly to OCFT, Bureau of International Labor Affairs, U.S. Department of Labor. Comments, identified as “Docket No. DOL-2018-0004,” may be submitted by any of the following methods:

1. Federal eRulemaking Portal: You may submit electronic comments to: http://www.regulations.gov. The portal includes instructions for submitting comments. Parties submitting responses electronically are encouraged not to submit paper copies.

2. Facsimile (fax): OCFT, at 202-693-4830.

3. Mail, Express Delivery, Hand Delivery, and Messenger Service (2 copies): Rachel Rigby/Austin Pedersen, U.S. Department of Labor, OCFT, Bureau of International Labor Affairs, 200 Constitution Avenue NW, RoomS-5313, Washington, DC 20210.

4. Email: Email submissions should be addressed to: EO13126@dol.gov.

FOR FURTHER INFORMATION CONTACT: Director, Office of Child Labor, Forced Labor, and Human Trafficking, Bureau of International Labor Affairs, U.S. Department of Labor, at (202) 693-4843 (this is not a toll free number). Individuals with hearing or speech impairments may access the telephone number above via TTY by calling the Federal Information Relay Service at 1-877-889-5627.

SUPPLEMENTARY INFORMATION:

I. Information Sought

The Department of Labor is requesting public comment on the revisions to the list proposed below, as well as any other issue related to the fair and effective implementation of E.O. 13126. This notice is a general solicitation of comments from the public. All submitted comments will be made a part of the public record and will be available for inspection on http://www.regulations.gov.

In conducting research for this initial determination, the three Departments considered a wide variety of materials based on their own research, and which originates from other U.S. Government agencies, foreign governments, international organizations, non-governmental organizations (NGOs), U.S. Government-funded technical assistance and field research projects, academic and other independent research, media, and other sources. The Department of State and U.S. embassies and consulates abroad also provided important information by gathering data from contacts, conducting site visits, and reviewing local media sources. In developing the proposed revision to the E.O. List, the three Departments' review focused on information concerning the use of forced or indentured child labor that was available from the above sources.

As outlined in the Procedural Guidelines, several factors were weighed in determining whether a product should be placed, or remain on, the revised E.O. List: The nature of the information describing the use of forced or indentured child labor; the source of the information; the date of the information; the extent of corroboration of the information by appropriate sources; whether the information involved more than an isolated incident; and whether recent and credible efforts are being made to address forced or indentured child labor in a particular country and industry (66 FR 5351).

This notice constitutes an initial determination to revise the list issued December 1, 2014. Based on available information from various sources, the three Departments have preliminarily concluded that there is no longer a reasonable basis to believe that there is use of forced or indentured child labor in the production of the following product, identified by its country of origin:

Product: Cotton

Country: Uzbekistan

The Department of Labor has received recent, credible, and corroborated information from various sources on the use of forced or indentured child labor in cotton production in Uzbekistan. This information indicates that while children previously worked under forced labor conditions in cotton production, the use of forced child labor appears to have been significantly reduced. Therefore, the three Departments have preliminarily concluded that there is no longer a reasonable basis to believe that cotton from Uzbekistan is produced by forced or indentured child labor, except in a few isolated instances, and therefore it should not continue to be on the list.

DOL placed cotton from Uzbekistan on the List in 2010, based on 14 sources dating from 2002 to 2008. Sources indicated that school administrators, at the direction of central and local governments, systematically mobilized children as young as 7 years old for participation in the annual cotton harvest.² In 2013, the Government of Uzbekistan committed to working with the International Labor Organization (ILO) to address forced child labor. Over time, three forms of harvest monitoring were established: ILO-implemented Third Party Monitoring (TPM), Uzbekistan's own national monitoring led by the Coordination Council, and independent monitoring conducted by human rights activists, many of whom coordinate their reporting through the Uzbek German Forum. In 2017, ILO monitoring, Uzbekistan's national monitoring, and observation by independent human rights activists each found that forced child labor had been reduced to a few incidents in the cotton harvest, and only 32 additional children were found to be engaged in child labor, though not all in forced labor conditions, in the cotton harvest.³ Both the U.S. Embassy in Tashkent's observation during the 2017 harvest, as well as DOL's review of available information, corroborated that forced child labor in the production of cotton had been significantly reduced to isolated incidents.⁴ Further, the Government of Uzbekistan has taken steps to improve the monitoring environment for independent activists and follow up on all reports of child labor and forced labor in the cotton harvest, including those made by independent activists.⁵ However, both the ILO and independent monitoring found that at least 300,000 adults were forced to work in the 2017 cotton harvest.⁶

² “Environmental Justice Foundation. Child Labor and Cotton in Uzbekistan.” available from http://www.ejfoundation.org/page145.html; “Environmental Justice Foundation. White Gold: The True Cost of Cotton.” London, 2005; available from http://www.ejfoundation.org/pdf/white_gold_the_true_cost_of_cotton.pdf; U.S. Department of State. “Uzbekistan. ” In Country Reports on Human Rights Practices 2007, March 11, 2008; available from http://www.state.gov/g/drl/rls/hrrpt/2007/100623.htm; U.S. Embassy Tashkent. reporting. June 6, 2008.

³ ILO. “Third-Party Monitoring of Measures Against Child Labor and Forced Labor During the 2017 Cotton Harvest in Uzbekistan.” February 1, 2018. http://www.ilo.org/ipec/Informationresources/WCMS_543130/lang-en/index.htm; Government of Uzbekistan. Response to TDA Questionnaire; January 25, 2017; Uzbek German Forum for Human Rights. Cotton Harvest 2017: Summary of Key Findings. March 2018. On file.

⁴ U.S. Embassy—Tashkent. Reporting. January 9, 2018; Uzbek German Forum for Human Rights, 2018; ILO, 2018.

⁵ U.S. Embassy—Tashkent, 2018.

⁶ ILO, 2018; Uzbek German Forum for Human Rights, 2018.

The Department of Labor invites public comment on whether this product (and/or other products, regardless of whether they are mentioned in this notice) should be included in or removed from the revised E.O. List. To the extent possible, comments provided should address the criteria for inclusion of a product on the E.O. List contained in the Procedural Guidelines discussed above.

Following receipt and consideration of comments on the removal from the E.O. List set out above, the three Departments will issue a final determination in the Federal Register. The three Departments intend to continue to revise the E.O. List periodically to add and/or remove products as warranted by the receipt of new and credible information.

II. Background

E.O. 13126 was signed on June 12, 1999, and published in the Federal Register on June 16, 1999.⁷ E.O. 13126 declared that it was “the policy of the United States Government . . . that executive agencies shall take appropriate actions to enforce the laws prohibiting the manufacture or importation of goods, wares, articles, and merchandise mined, produced or manufactured wholly or in part by forced or indentured child labor.” The E.O. defines “forced or indentured child labor” as all work or service exacted from any person under the age of 18 under the menace of any penalty for its nonperformance and for which the worker does not offer himself voluntarily, or performed by any person under the age of 18 pursuant to a contract the enforcement of which can be accomplished by process or penalties.

⁷ 64 FR 32383.

Pursuant to E.O. 13126, and following public notice and comment, the Department of Labor published in the January 18, 2001, Federal Register the first E.O. List of products, along with their respective countries of origin, that the Department, in consultation and cooperation with the Departments of State and Treasury (whose relevant responsibilities are now within the Department of Homeland Security), had a reasonable basis to believe might have been mined, produced or manufactured with forced or indentured child labor.⁸ The Department also published the Procedural Guidelines on January 18, 2001, which provide procedures for the maintenance, review, and, as appropriate, revision of the E.O. List.⁹

⁸ 66 FR 5353.

⁹ 66 FR 5351.

The Procedural Guidelines provide that the E.O. List may be revised through consideration of submissions by individuals and on the three Departments' own initiative. When proposing a revision to the E.O. List, DOL must publish in the Federal Register a notice of initial determination, which includes any proposed alteration to the E.O. List. The three Departments will consider all public comments prior to the publication of a final determination of a revised E.O. List.

On January 18, 2001, pursuant to Section 3 of E.O. 13126, the Federal Acquisition Regulatory Council published a final rule to implement specific provisions of E.O. 13126 that require, among other things, that Federal contractors who supply products that appear on the list certify to the contracting officer that the contractor, or, in the case of an incorporated contractor, a responsible official of the contractor, has made a good faith effort to determine whether forced or indentured child labor was used to mine, produce, or manufacture any product furnished under the contract and that, on the basis of those efforts, the contractor is unaware of any such use of forced or indentured child labor.¹⁰

¹⁰ See 48 CFR subpart 22.15.

On September 11, 2009, the Department of Labor published an initial determination in the Federal Register proposing to revise the E.O. List to include 29 products from 21 countries. The Notice requested public comments for a period of 90 days. Public comments were received and reviewed by all relevant agencies and a final determination was issued on July 20, 2010. Following the same process, the E.O. List was revised again in 2011, 2012, 2013, and 2014. The most recent E.O. List, finalized on December 1, 2014, includes 35 products from 26 countries.

The current E.O. List and the Procedural Guidelines can be accessed at http://www.dol.gov/ilab/reports/child-labor/list-of-products/ or can be obtained from: OCFT, Bureau of International Labor Affairs, RoomS-5313, U.S. Department of Labor, 200 Constitution Avenue NW, Washington, DC 20210; telephone: (202) 693-4843; fax (202) 693-4830.

(Authority: E.O. 13126, 64 FR 32383)

Signed at Washington, DC, this 24 day of July 2018.
Martha E. Newton,
Deputy Undersecretary for International Affairs.

[FR Doc. 2018-16288 Filed 7-30-18; 8:45 am]

BILLING CODE 4510-28-P